DEPARTMENT OF LABOR

Notice of Publication of 2020 Update to the Department of Labor's List of Goods Produced by Child Labor or Forced Labor

AGENCY: Bureau of International Labor Affairs, Department of Labor.

ACTION: Announcement of public availability of updated list of goods with child labor or forced labor.

SUMMARY: This notice announces the publication of an updated list of goods—along with countries of origin—that the Bureau of International Labor Affairs (ILAB) has reason to believe are produced by child labor or forced labor in violation of international standards (the List). ILAB is required to develop and make available to the public the List pursuant to the Trafficking Victims Protection Reauthorization Act (TVPRA) of 2005, as amended.

DATES: Publication on: September 30, 2020.

FOR FURTHER INFORMATION CONTACT: Director, Office of Child Labor, Forced Labor, and Human Trafficking, Bureau of International Labor Affairs, U.S. Department of Labor, at (202) 693-4843 (this is not a toll free number) or ILAB-TVPRA@dol.gov. Individuals with hearing or speech impairments may access the telephone number above via TTY by calling the Federal Information Relay Service at 1-877-889-5627.

SUPPLEMENTARY INFORMATION: The Bureau of International Labor Affairs (ILAB) announces the publication of the ninth edition of the List of Goods Produced by Child Labor or Forced Labor (List), pursuant to the Trafficking Victims Protection Reauthorization Act (TVPRA) of 2005, as amended (TVPRA). ILAB published the initial List on September 10, 2009, and has since published eight updated editions. The 2020 edition adds six new goods (gloves, rubber gloves, hair products, pome and stone fruits, sandstone, and tomato products) and two new countries (Venezuela and Zimbabwe) and one new area (Taiwan) to the List. This edition also features the removal of cattle produced with child labor in Namibia from the List.

Section 105(b) of the TVPRA mandates that ILAB develop and publish a list of goods from countries that ILAB “has reason to believe are produced with child labor or forced labor in violation of international standards” 22 U.S.C. 7112(b)(2). ILAB's Office of Child Labor, Forced Labor, and Human Trafficking (OCFT) carries out this mandate. The primary purposes of the List are to raise public awareness about the incidence of child labor and forced labor in the production of goods in the countries listed and to promote efforts to eliminate such practices. A full report, including the updated List and a discussion of the List's methodology, as well as Frequently Asked Questions and a bibliography of sources, are available on the Department of Labor website at: http://www.dol.gov/ilab/reports/child-labor/list-of-goods/.

Authority: 22 U.S.C. 7112(b)(2)(C).

Signed at Washington, DC, this 28th day of September 2020.
Grant Lebens,
Chief of Staff, Bureau of International Labor Affairs.

[FR Doc. 2020-21759 Filed 10-1-20; 8:45 am]

BILLING CODE 4510-28-P